DEPARTMENT OF DEFENSE

Office of the Secretary

[Docket ID: DoD-2023-OS-0008]

Proposed Collection; Comment Request

AGENCY: Office of the Under Secretary of Defense for Personnel and Readiness (OUSD(P&R)), Department of Defense (DoD).

ACTION: 60-Day information collection notice.

SUMMARY: In compliance with the Paperwork Reduction Act of 1995, the Office of the Under Secretary of Defense for Personnel and Readiness announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 21, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to USD(P&R),OASD(HA),HSP&O; 7700 Arlington Blvd., Room 3M631, Falls Church, VA 22042; Dr. Paul Ciminera; 703-681-1708, paul.ciminera.civ@health.mil.

SUPPLEMENTARY INFORMATION: Title; Associated Form; and OMB Number: Separation Health Assessment; DD Form 3146; OMB Control Number 0704-SHAS.

Needs and Uses: The form will be used to document physical examinations and mental health assessments conducted for Service members at separation from service pursuant to section 1145 of Title 10 of the United Sates Code and DoD Instruction 6040.46, “The Separation History and Physical Examination (SHPE) for the DoD Separation Health Assessment (SHA) Program.” The Department of Defense developed DD Form 3146 in coordination with the Department of Veterans Affairs (VA) as a common form for documentation of the separation health assessment. Once approved for official use, the DD Form 3146 will replace DD Forms 2807-1, “Report of Medical History,” and 2808, “Report of Medical Examination,” for documentation of health assessments of Service members required at their separation, thereby fulfilling the common form objective in the January 24, 2022 VA/DoD Memorandum of Agreement concerning Separation Health Assessments.

Affected Public: Individuals and households.

Annual Burden Hours: 100,000.

Number of Respondents: 200,000.

Responses per Respondent: 1.

Annual Responses: 200,000.

Average Burden per Response: 30 minutes.

Frequency: Once.

Dated: January 17, 2023.
Aaron T. Siegel,
Alternate OSD Federal Register Liaison Officer, Department of Defense.

[FR Doc. 2023-01094 Filed 1-19-23; 8:45 am]

BILLING CODE 5001-06-P